DEPARTMENT OF COMMERCE

Foreign-Trade Zones Board

[S-231-2020]

Approval of Subzone Status; Baxter Healthcare Corporation; Byhalia, Mississippi

On December 29, 2020, the Acting Executive Secretary of the Foreign-Trade Zones (FTZ) Board docketed an application submitted by the Northern Mississippi FTZ, Inc., grantee of FTZ 262, requesting subzone status subject to the existing activation limit of FTZ 262, on behalf of Baxter Healthcare Corporation, in Byhalia, Mississippi.

The application was processed in accordance with the FTZ Act and Regulations, including notice in the Federal Register inviting public comment (86 FR 286, January 5, 2021). The FTZ staff examiner reviewed the application and determined that it meets the criteria for approval.

Pursuant to the authority delegated to the FTZ Board Executive Secretary (15 CFR Sec. 400.36(f)), the application to establish Subzone 262E was approved on March 2, 2021, subject to the FTZ Act and the Board's regulations, including Section 400.13, and further subject to FTZ 262's 2,000-acre activation limit.

Dated: March 2, 2021.
Andrew McGilvray,
Executive Secretary.

[FR Doc. 2021-04615 Filed 3-4-21; 8:45 am]

BILLING CODE 3510-DS-P